NUCLEAR REGULATORY COMMISSION

[NRC-2013-0012]

[Docket Nos. 50-458, 50-155, 72-043, 50-003, 50-247, 50-286, 50-333, 50-255, 50-293, 50-271, 50-313, 50-368, 50-416, and 50-382]

Entergy Nuclear Operations, Inc.; Entergy Operations, Inc.; Biweekly Notice; Notice of Issuance of Amendment to Facility Operating License; Correction

AGENCY: Nuclear Regulatory Commission.

ACTION: Notice of issuance of amendment; correction.

SUMMARY: The original “Notice of Consideration of Issuance of Amendments to Facility Operating Licenses, Proposed No Significant Hazards Consideration Determination, and Opportunity for a Hearing” was published in the Federal Register on March 20, 2012 (77 FR 16274) and included Big Rock Plant. This notice corrects a notice appearing in the Federal Register on January 22, 2013 (78 FR 4475-4476), to include a missing facility operating license number and a missing amendment number. This action is necessary to include the license and amendment number for which the license amendment was issued.

FOR FURTHER INFORMATION CONTACT: Nageswaran Kalyanam, Office of Nuclear Reactor Regulation, U.S. Nuclear Regulatory Commission, Washington, DC 20555-0001; telephone (301) 415-1480, email: kaly.kalyanam@nrc.gov.

SUPPLEMENTARY INFORMATION: On page 4476, in the first column, line two, is corrected from “and Waterford—240.” to “Waterford—240; and Big Rock—128.”; also, on page 4476, first column, first full paragraph, line four is corrected from “DPR-20, and DPR-28: The amendments” to “DPR-20, DPR-28, and DPR-06: The amendments”.

Dated in Rockville, Maryland, this 14th day of March 2013.
For the Nuclear Regulatory Commission.
Nageswaran Kalyanam,
Project Manager, Plant Licensing Branch IV, Division of Operating Reactor Licensing, Office of Nuclear Reactor Regulation.

[FR Doc. 2013-06510 Filed 3-20-13; 8:45 am]

BILLING CODE 7590-01-P